SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, DCRDP, Attn: Reports Clearance Director, 107 Altmeyer Building, 6401 Security Blvd., Baltimore, MD 21235, Fax: 410-966-2830, Email address: OR.Reports.Clearance@ssa.gov.

The information collection below is pending at SSA. SSA will submit it to OMB within 60 days from the date of this notice. To be sure we consider your comments, we must receive them no later than August 27, 2013. Individuals can obtain copies of the collection instruments by writing to the above email address.

Disability Report—Child—20 CFR 416.912—0960-0577—

Sections 223(d)(5)(A) and 1631(e)(1) of the Social Security Act (Act) require Supplemental Security Income (SSI) claimants to furnish medical and other evidence proving they are disabled. SSA uses Form SSA-3820 to collect various types of information about a child's condition from treatment sources or other medical sources of evidence. State Disability Determination Services evaluators use the information Form SSA-3820 provides to develop medical and school evidence, and to assess the alleged disability. The information, together with medical evidence, forms the evidentiary basis upon which SSA makes its initial disability evaluation. The respondents are claimants seeking SSI childhood disability payments.

Type of Request: Revision of an OMB-approved information collection.

Modality of completion | Number of respondents | Frequency of response | Average burden per response (minute) | Estimated annual burden (hours)
SSA-3820 | 500 | 1 | 90 | 750
Electronic Disability Collect System | 1,000 | 1 | 120 | 2,000
i3820 | 540,000 | 1 | 60 | 540,000
Totals | 541,500 |  |  | 542,750

II. SSA submitted the information collections below to OMB for clearance. Your comments regarding the information collections would be most useful if OMB and SSA receive them 30 days from the date of this publication. To be sure we consider your comments, we must receive them no later than July 29, 2013. Individuals can obtain copies of the OMB clearance packages by writing to OR.Reports.Clearance@ssa.gov.

1. Report to United States Social Security Administration by Person Receiving Benefits for a Child or for an Adult Unable to Handle Funds; Report to United States Social Security Administration—0960-0049. Section 203(c) of the Act requires the Commissioner of SSA to make benefit deductions from the following categories: (1) Entitled individuals who engage in remunerative activity outside of the United States in excess of 45 hours a month, and (2) beneficiaries who fail to have in their care the specified entitled child beneficiaries. SSA uses the information Forms SSA-7161-OCR-SM and SSA-7162-OCR-SM provide to: (1) Determine continuing entitlement to Social Security benefits; (2) correct benefit amounts for beneficiaries outside the United States; and (3) monitor the performance of representative payees outside the United States. The respondents are individuals living outside the United States who are receiving benefits on their own (or for someone else) under title II of the Act.

Type of Request: Revision of an OMB-approved information collection.

Modality of completion | Number of respondents | Frequency of response | Average burden per response (minute) | Estimated annual burden (hours)
SSA-7161-OCR-SM | 43,000 | 1 | 15 | 10,750
SSA-7162-OCR-SM | 364,000 | 1 | 5 | 30,333
Totals | 407,000 |  |  | 41,083

2. Cost Reimbursable Research Request—20 CFR 401.165—0960-0754. Qualified researchers need SSA administrative data for a variety of projects. To request SSA's program data for research, we require the researcher to submit a completed research application, Form SSA-9901 (How to Request SSA Program Data for Research) for SSA's evaluation. In the application, the requesting researcher provides basic project information and describes the way in which the proposed project will further SSA's mission to promote the economic security of the Nation's people through its administration of the Old Age, Survivors, and Disability Insurance programs, or the SSI program. SSA reviews the application, and once we approve it, the researcher signs Form SSA-9903, (SSA Agreement Regarding Conditions for Use of SSA Data), which outlines the conditions and safeguards for the research project data exchange. If the researcher uses the data for research and statistical purposes only, we require them to complete Form SSA-9902, (Confidentiality Agreement). SSA recovers all expenses incurred in providing this information as part of this reimbursable service. The respondents are Federal and State government agencies or their contractors, private entities, and colleges and universities.

Type of Request: Revision of an OMB-approved information collection.

Modality of completion | Number of respondents | Frequency of response | Average burden per response (minute) | Estimated annual burden (hours)
SSA-9901; SSA-9902; SSA-9903 | 15 | 1 | 240 | 60

3. Government-to-Government Services Online Web site Registration; Government-to-Government Services Online Web site Account Modification/Deletion Form—20 CFR 401.45—0960-0757. The Government-to-Government Services Online (GSO) Web site allows various external organizations to submit files to a variety of SSA systems and, in some cases, receive return files. The users include State and local government agencies, other Federal agencies, and some private sector business entities. The SSA systems that process data transferred via GSO include, but are not limited to, systems responsible for disability processing and benefit determination or termination. SSA uses the information on Form SSA-159 (GSO Web site Registration Form) to maintain the identity of the requestor within GSO. The organization can also modify its online account (e.g., address change) by completing Form SSA-160 (GSO Web site Account Modification/Deletion Form). Respondents are State and local government agencies, and private sector businesses.

Type of Request: Revision of an OMB-approved information collection.

Modality of completion | Number of respondents | Frequency of response | Average burden per response (minute) | Estimated annual burden (hours)
SSA-159 | 925 | 1 | 15 | 231
SSA-160 | 2,500 | 1 | 15 | 625
Totals | 3,425 |  |  | 856

Dated: June 25, 2013.
Faye Lipsky,
Reports Clearance Director, Social Security Administration.

[FR Doc. 2013-15521 Filed 6-27-13; 8:45 am]

BILLING CODE 4191-02-P